DEPARTMENT OF THE INTERIOR

National Park Service

[NPS-WASO-NRSS-EQD-SSB-16553; PPWONRADE3, PPMRSNR1Y.NM000]

Proposed Information Collection; Comment Request: Programmatic Review and Clearance Process for NPS-Sponsored Public Surveys

AGENCY: National Park Service, Interior.

ACTION: Notice and request for comments.

SUMMARY: We (National Park Service) are asking the Office of Management and Budget (OMB) to approve the Information Collection Request (ICR) described below. The National Park Service (NPS) is requesting renewal of a currently approved collection (OMB Control Number 1024-0224). This Programmatic Review and Clearance Process for NPS-Sponsored Public Surveys simplifies and streamlines the information collection requests to OMB in a manner that allows the NPS to submit and request up to five times as many requests per year as we would through the regular submission route. To comply with the Paperwork Reduction Act of 1995 and as a part of our continuing efforts to reduce paperwork and respondent burden, we invite the general public and other Federal agencies to comment on this ICR. A Federal agency may not conduct or sponsor and a person is not required to respond to a collection of information unless it displays a currently valid OMB control number.

DATES: To ensure that your comments on this ICR are considered, OMB must receive them on or before September 29, 2014.

ADDRESSES: Please submit written comments on this information collection directly to the Office of Management and Budget (OMB) Office of Information and Regulatory Affairs, Attention: Desk Officer for the Department of the Interior, via email to OIRA_Submission@omb.eop.gov or fax at 202-395-5806; and identify your submission as 1024-0224. Please also send a copy of your comments to Phadrea Ponds, Information Collection Coordinator, National Park Service, 1201 Oakridge Drive, Fort Collins, CO 80525 (mail); or phadrea_ponds@nps.gov (email). Please reference Information Collection 1024-0224 in the subject line.

FOR FURTHER INFORMATION CONTACT: Phadrea Ponds, Information Collection Review Coordinator, National Park Service, 1201 Oakridge Drive, Fort Collins, CO 80525 (mail); or phadrea_ponds@nps.gov (email). Please reference Information Collection 1024-0224 in the subject line. You may also access this ICR at www.reginfo.gov.

I. Abstract

The National Park Service (NPS) is requesting a one year extension for the Programmatic Review and Clearance Process for NPS-Sponsored Public Surveys (OMB Control Number 1024-0224). The request to extend the current expiration date (August 31, 2014) for one year is for the purpose of revising the current Pool of Known Questions that serves as a primary component of this process. This request is also based upon requests from human dimensions and natural resource professionals that we update the current list of questions and topic areas that are more than 20 years old. This extension is needed to work collaboratively with other researchers in this field to increase the Pool of Known Questions usability as an effective tool in this process. During the extension we will continue to submit collections for FY15 (based upon the currently approved documents) and we will also host a series of workshops to facilitate the revision of the topic areas and questions.

II. Data

OMB Control Number: 1024-0224.

Title: Programmatic Review and Clearance Process for NPS-Sponsored Public Surveys.

Type of Request: Renewal.

Affected Public: General public; individual households.

Respondent Obligation: Voluntary.

Frequency of Collection: One time.

Estimated Number of Annual Responses: 53,500.

Estimated Annual Burden Hours: 17,080 hours.

Estimated Annual Reporting and Recordkeeping “Non-Hour Cost”: None.

III. Request for Comments

On May 27, 2014, we published a Federal Register notice (79 FR 30162) announcing that we would submit this ICR to OMB for approval. Public comments were solicited for 60 days ending July 28, 2014. We did not receive any public comments in response to that notice. In addition, individuals who had served as principal investigators of NPS-sponsored public surveys in FY 2012-13 were informed that the 60-day Federal Register notice was published. However, we requested that several social scientists and natural resource researchers provide a review of the Pool of Known Questions. Several of the reviewers suggested that it is time to revisit the entire list of questions because “many are considered to be outdated or underused” and “there are other topics areas that should be included (e.g., interpretation and education)”. Based on these comments we are requesting an extension of this collection to consider the recommendations to update the Pool of Known Questions.

We again invite comments concerning this information collection on:

• Whether or not the collection of information is necessary, including whether or not the information will have practical utility;

• The accuracy of our estimate of the burden for this collection of information;

• Ways to enhance the quality, utility, and clarity of the information to be collected; and

• Ways to minimize the burden of the collection of information on respondents.

Comments that you submit in response to this notice are a matter of public record. Before including your address, phone number, email address, or other personal identifying information in your comment, you should be aware that your entire comment, including your personal identifying information, may be made publicly available at any time. While you can ask OMB in your comment to withhold your personal identifying information from public review, we cannot guarantee that it will be done.

Dated: August 25, 2014.
Madonna L. Baucum,
Information Collection Clearance Officer, National Park Service.

[FR Doc. 2014-20619 Filed 8-28-14; 8:45 am]

BILLING CODE 4310-EH-P